ENVIRONMENTAL PROTECTION AGENCY

40 CFR Part 56

[EPA-HQ-OAR-2014-0616; FRL-9936-11-OAR]

RIN 2060-AS53

Amendments to Regional Consistency Regulations

AGENCY: Environmental Protection Agency (EPA).

ACTION: Proposed rule; reopening of comment period.

SUMMARY: On August 19, 2015, the Environmental Protection Agency (EPA) proposed revisions to its Regional Consistency regulations. The EPA is reopening the comment period on the proposed rule that closed on October 19, 2015. The EPA received a single letter from 16 trade and business organizations requesting additional time to review and comment on the proposed rule revisions.

DATES: The public comment period for the proposed rule published in the Federal Register on August 19, 2015 (80 FR 50250), is being reopened. Written comments must be received on or before November 3, 2015.

ADDRESSES: Submit your comments, identified by Docket ID No. EPA-HQ-OAR-2014-0616, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make. For additional submission methods, the full EPA public comment policy, and general guidance on making effective comments, please visit http://www.epa.gov/dockets/comments.html.

FOR FURTHER INFORMATION CONTACT: For additional information, contact Greg Nizich, Air Quality Policy Division, Office of Air Quality Planning and Standards (C504-03), Environmental Protection Agency, Research Triangle Park, North Carolina 27711; telephone number (919) 541-3078; fax number (919) 541-5509; email address: nizich.greg@epa.gov.

SUPPLEMENTARY INFORMATION: After considering the request received from 16 trade and business organizations to extend the public comment period, the EPA has decided to reopen the public comment period until November 3, 2015. This extension will help ensure that the public has additional time to review the proposed changes to the existing rule.

Dated: October 16, 2015.
Mary E. Henigin,
Acting Director, Office of Air Quality Planning and Standards.

[FR Doc. 2015-26942 Filed 10-21-15; 8:45 am]

BILLING CODE 6560-50-P